DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on January 13, 2005, at Red Bluff, California. The purpose of the meeting is to discuss issues relating to implementing the Northwest Forest Plan.

DATES: The meeting will be held on January 13, 2005.

Location: The meeting will be held in the Conference Room at the Fish and Wildlife Service office at 10950 Tyler Road, Red Bluff, CA.

FOR FURTHER INFORMATION CONTACT: Julie Nelson, Committee Coordinator, USDA, Shasta-Trinity National Forest, 3644 Avtech Parkway, Redding, CA 96002 (530) 226-2429; or by e-mail: jknelson@fs.fed.us.

SUPPLEMENTARY INFORMATION: The meeting is open to the public. Opportunity will be provided for public input and individuals will have the opportunity to address the Committee at that time.

Dated: December 17, 2004.
J. Sharon Heywood,
Forest Supervisor.

[FR Doc. 04-28372 Filed 12-27-04; 8:45 am]

BILLING CODE 3410-FK-M